DEPARTMENT OF DEFENSE

Department of the Army

[Docket ID: USA-2018-HQ-0003]

Proposed Collection; Comment Request

AGENCY: Department of Army, DoD.

ACTION: Information collection notice.

SUMMARY: In compliance with the Paperwork Reduction Act of 1995, the Office of the Chief of Staff of the Army announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 30, 2018.

ADDRESSES: You may submit comments, identified by docket number and title, by any of the following methods:

• Federal eRulemaking Portal: http://www.regulations.gov. Follow the instructions for submitting comments.

• Mail: Department of Defense, Office of Chief Management Officer, Directorate for Oversight and Compliance, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Department of the Army, Office of the Chief of Installation Management for the Department of the Army, Soldier & Family Readiness Division ATTN: Megan Coffey, Washington, DC 20310 or email to Army.Survivors@mail.mil.

SUPPLEMENTARY INFORMATION:

Title; Associated Form; and OMB Number: Army Survivor Advisory Working Group (SAWG); OMB #0702-XXXX.

Needs and Uses: The information collection requirement is necessary to obtain applications of individuals who may provide advice and recommendations regarding vital Total Army (Active Component, Army National Guard, and U.S. Army Reserve) Survivor quality of life issues. Advisors assess of how current Survivor programs and initiatives may affect the Survivor community.

Affected Public: Not-for-profit institutions.

Annual Burden Hours: 300.

Number of Respondents: 150.

Responses per Respondent: 1.

Annual Responses: 150.

Average Burden per Response: 2 hours.

Frequency: Annual.

Respondents will be surviving members of deceased Service members; members may be surviving spouses, parents, siblings, and dependents over the age of 18. SAWG members selected will be required to meet biannually for a four day period. Additionally, there will be monthly phone calls to SAWG issues with the members.

Dated: February 21, 2018.
Aaron Siegel,
Alternate OSD Federal Register Liaison Officer, Department of Defense.

[FR Doc. 2018-03903 Filed 2-26-18; 8:45 am]

BILLING CODE 3710-08-P